DEPARTMENT OF HEALTH AND HUMAN SERVICES

[Document Identifier: OS-0990-new]

Agency Information Collection Request: 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before January 11, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Sherrette Funn, Sherrette.Funn@hhs.gov or (202) 264-0041, or PRA@HHS.GOV. When submitting comments or requesting information, please include the document identifier 0990-New-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Data Management Standard Operating Procedures Survey.

Type of Collection: New.

OMB No.: 0990-NEW.

Abstract: The Office of the Assistant Secretary for Health, Office of Research Integrity is requesting a new approval from the Office of Management and Budget of the Data Management Standard Operating Procedures Survey. Information from respondents to the survey will be used to develop a Data Management Standard Operating Procedures toolkit that will be disseminated to researchers, research administrators, and research institutions to implement. In addition, other products will be developed to disseminate survey results and findings to include, social media posts, YouTube video, webinar, and summary report for the research community.

Type of Respondent; Biostatisticians and Bioscience Researchers.

Estimated Annualized Burden Table
Type of respondent | Number of respondents | Number responses per respondent | Average burden per response (in hours) | Total burden hours
Biostatisticians and Bioscience Researchers | 1200 | 1 | 45/60 | 900
Total |  |  |  | 900

Sherrette A. Funn,
Paperwork Reduction Act Reports Clearance Officer, Office of the Secretary.

[FR Doc. 2022-26883 Filed 12-9-22; 8:45 am]

BILLING CODE 4150-31-P